FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 6, 2013.

A. Federal Reserve Bank of Minneapolis (Jacqueline G. King, Community Affairs Officer) 90 Hennepin Avenue, Minneapolis, Minnesota 55480-0291:

1. Thomas W. Armstrong, and Bradley A. Trimner, individually and as Co-Trustees of the Arnold J. Stueber, Sr. Revocable Trust, and the Sadie A. Stueber Revocable Trust, and Mary Luethmers, all of Park Falls, Wisconsin, individually, to each retain voting shares of Park Falls Agency, Inc., and thereby indirectly retain voting shares of The First National Bank of Park Falls, both in Park Falls, Wisconsin.

Board of Governors of the Federal Reserve System, April 16, 2013.
Margaret McCloskey Shanks,
Deputy Secretary of the Board.

[FR Doc. 2013-09220 Filed 4-18-13; 8:45 am]

BILLING CODE 6210-01-P